ENVIRONMENTAL PROTECTION AGENCY

40 CFR Part 52

[EPA-R04-OAR-2018-0711; FRL-9996-42-Region 4]

Air Plan Approval; GA; Miscellaneous Revisions

AGENCY: Environmental Protection Agency (EPA).

ACTION: Proposed rule.

SUMMARY: The Environmental Protection Agency (EPA) is proposing to approve a State Implementation Plan (SIP) revision submitted by the State of Georgia, through the Georgia Environmental Protection Division (GA EPD) of the Department of Natural Resources, in a letter dated July 31, 2018. EPA is proposing to approve changes to the Georgia's Nonattainment New Source Review (NNSR) permitting rule. This action is being proposed pursuant to the Clean Air Act (CAA or Act) and its implementing regulations.

DATES: Comments must be received on or before August 9, 2019.

ADDRESSES: Submit your comments, identified by Docket ID No. at EPA-R04-OAR-2018-0711 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Richard Wong, Air Regulatory Management Section, Air Planning and Implementation Branch, Air and Radiation Division, U.S. Environmental Protection Agency, Region 4, 61 Forsyth Street SW, Atlanta, Georgia 30303-8960. The telephone number is (404) 562-8726. Mr. Wong can also be reached via electronic mail at wong.richard@epa.gov.

SUPPLEMENTARY INFORMATION:

I. Background

GA EPD submitted a SIP revision through a letter dated July 31, 2018, to EPA for review and approval into the Georgia SIP that contains changes to a number of Georgia's air quality rules in Rule 391-3-1.¹ The changes that EPA is proposing to approve into the SIP through this rulemaking revises Rule 391-3-1-.01, “Definitions,” Rule 391-3-.02(2)(c), “Incinerators,” and Rule 391-3-1-.03 “Permits.”

¹ EPA received the submittal on August 2, 2018. The cover letter includes other rule changes that have been or will be addressed in separate EPA actions.

II. Analysis of State's Submittal

Georgia's submittal makes several administrative and clarifying edits to Rule 391-3-1-.01, “Definitions.” Specifically, the change to Rule 391-3-1-.01(oo), “Manager” removes “office” and replaces with “compliance assistance program.” The change to Rule 391-3-1-.01(kkk), “Small Business Advisory Panel” adds “Compliance” to the title of this rule and the change to Rule 391-3-1-.01(lll), “Small business stationary source or facility” at subparagraph (5) removes the major stationary source description for sources and facilities emitting less than 75 tons of regulated pollutants. Lastly, the revision to Rule 391-3-1-.01(mmm), “Small business stationary source technical and environmental office,” changes the title to “Small business stationary source technical and environmental compliance assistance program,” and removes Air Protection Branch from the definition.

Additionally, Georgia's July 31, 2018, SIP revision makes changes to Rule 391-3-1-.02(2)(c), “Incinerators.” The change updates rule titles for Hospital/Medical/Infectious Waste Incinerators, Commercial and Industrial Solid Waste, and Sewage Sludge Incinerators in Subparagraphs (6)(iv), (v), (vi), (vii), and (xiii). Lastly, a typographical edit is made to Rule 391-3-1-.03(11)(b)(11), “Peanut/Nut Shelling Operations” at Subparagraph (i)(II). EPA is proposing to approve these changes because they are minor and clarifying changes that do not relax or alter the meaning of the rules.

III. Incorporation by Reference

In this document, EPA is proposing to include in a final EPA rule regulatory text that includes incorporation by reference. In accordance with requirements of 1 CFR 51.5, EPA is proposing to incorporate by reference the GA EPD Rule 391-3-1-.01, “Definitions,” Rule 391-3-.02(2)(c), “Incinerators,” and Rule 391-3-1-.03(11) “Permit by Rule,” which clarifies the rule by updating rule titles and making typographical corrections, state effective June 18, 2018. EPA has made, and will continue to make, these materials generally available through www.regulations.gov and at the EPA Region 4 office (please contact the person identified in the FOR FURTHER INFORMATION CONTACT section of this preamble for more information).

IV. Proposed Action

EPA is proposing to approve the aforementioned changes to Georgia August 2, 2018, SIP submittal that make changes to Rule 391-3-1-.01, “Definitions,” Rule 391-3-.02(2)(c), “Incinerators,” and Rule 391-3-1-.03(11) “Permit by Rule.” EPA views these changes as being consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Ozone, Volatile organic compounds.

Authority: 42 U.S.C. 7401 et seq.

Dated: June 26, 2019.
Mary S. Walker,
Region 4.

[FR Doc. 2019-14610 Filed 7-9-19; 8:45 am]

BILLING CODE 6560-50-P